DEPARTMENT OF ENERGY

Federal Energy Regulatory Commission

Combined Notice of Filings #1

Take notice that the Commission received the following electric rate filings:

Docket Numbers: ER24-1970-000.

Applicants: Flemington Solar, LLC.

Description: Refund Report: Refund Report to be effective N/A.

Filed Date: 8/22/24.

Accession Number: 20240822-5183.

Comment Date: 5 p.m. ET 9/12/24.

Docket Numbers: ER24-1971-000.

Applicants: Frenchtown I Solar, LLC.

Description: Refund Report: Frenchtown I Solar, LLC submits tariff filing per 35.19a(b): Refund Report to be effective N/A.

Filed Date: 8/22/24.

Accession Number: 20240822-5187.

Comment Date: 5 p.m. ET 9/12/24.

Docket Numbers: ER24-1972-000.

Applicants: Frenchtown II Solar, LLC.

Description: Refund Report: Refund Report to be effective N/A.

Filed Date: 8/22/24.

Accession Number: 20240822-5191.

Comment Date: 5 p.m. ET 9/12/24.

Docket Numbers: ER24-1973-000.

Applicants: Frenchtown III Solar, LLC.

Description: Refund Report: Refund Report to be effective N/A.

Filed Date: 8/22/24.

Accession Number: 20240822-5193.

Comment Date: 5 p.m. ET 9/12/24.

Docket Numbers: ER24-1974-000.

Applicants: PA Solar Park, LLC.

Description: Refund Report: Refund Report to be effective N/A.

Filed Date: 8/22/24.

Accession Number: 20240822-5195.

Comment Date: 5 p.m. ET 9/12/24.

Docket Numbers: ER24-1975-000.

Applicants: PA Solar Park II, LLC.

Description: Refund Report: Refund Report to be effective N/A.

Filed Date: 8/22/24.

Accession Number: 20240822-5197.

Comment Date: 5 p.m. ET 9/12/24.

Docket Numbers: ER24-1976-000.

Applicants: Pilesgrove Solar, LLC.

Description: Refund Report: Refund Report to be effective N/A.

Filed Date: 8/22/24.

Accession Number: 20240822-5198.

Comment Date: 5 p.m. ET 9/12/24.

Docket Numbers: ER24-1977-000.

Applicants: Lakehurst Solar, L.L.C.

Description: Refund Report: Refund Report to be effective N/A.

Filed Date: 8/22/24.

Accession Number: 20240822-5199.

Comment Date: 5 p.m. ET 9/12/24.

Docket Numbers: ER24-2580-000.

Applicants: White Pine Hydro, LLC.

Description: Supplement to 07/23/2024 Application for Market-Based Rate Authority of White Pine Hydro, LLC.

Filed Date: 8/22/24.

Accession Number: 20240822-5238.

Comment Date: 5 p.m. ET 9/3/24.

Docket Numbers: ER24-2834-000.

Applicants: PJM Interconnection, L.L.C.

Description: § 205(d) Rate Filing: Amendment to WMPA, Service Agreement No. 6029; Queue No. AG1-140 to be effective 10/22/2024.

Filed Date: 8/22/24.

Accession Number: 20240822-5207.

Comment Date: 5 p.m. ET 9/12/24.

Docket Numbers: ER24-2835-000.

Applicants: PJM Interconnection, L.L.C.

Description: § 205(d) Rate Filing: Designated Entity Agreement, SA No. 7331 between PJM and PEPCO to be effective 7/24/2024.

Filed Date: 8/22/24.

Accession Number: 20240822-5211.

Comment Date: 5 p.m. ET 9/12/24.

Docket Numbers: ER24-2836-000.

Applicants: PJM Interconnection, L.L.C.

Description: § 205(d) Rate Filing: Designated Entity Agreement, SA No. 7332 between PJM and BGE to be effective 7/24/2024.

Filed Date: 8/22/24.

Accession Number: 20240822-5214.

Comment Date: 5 p.m. ET 9/12/24.

Docket Numbers: ER24-2837-000.

Applicants: Unbridled Solar, LLC.

Description: Baseline eTariff Filing: Application for Market Based Rate to be effective 8/23/2024.

Filed Date: 8/22/24.

Accession Number: 20240822-5221.

Comment Date: 5 p.m. ET 9/12/24.

Docket Numbers: ER24-2838-000.

Applicants: Keystone Appalachian Transmission Company, PJM Interconnection, L.L.C.

Description: § 205(d) Rate Filing: Keystone Appalachian Transmission Company submits tariff filing per 35.13(a)(2)(iii: KATCo submits Operating and Interconnection Agreement, SA No. 6650 to be effective 10/23/2024.

Filed Date: 8/23/24.

Accession Number: 20240823-5027.

Comment Date: 5 p.m. ET 9/13/24.

Docket Numbers: ER24-2839-000.

Applicants: Midcontinent Independent System Operator, Inc.

Description: § 205(d) Rate Filing: 2024-08-23_SA 4335 NSP-Harmony Solar ND GIA (J1588) to be effective 8/13/2024.

Filed Date: 8/23/24.

Accession Number: 20240823-5030.

Comment Date: 5 p.m. ET 9/13/24.

Docket Numbers: ER24-2840-000.

Applicants: Georgia Power Company.

Description: § 205(d) Rate Filing: Amendment of GPC Rate Schedule No. 850—OPC & GSOC Control Area Compact to be effective 7/31/2023.

Filed Date: 8/23/24.

Accession Number: 20240823-5072.

Comment Date: 5 p.m. ET 9/13/24.

Docket Numbers: ER24-2841-000.

Applicants: Atrisco BESS SF LLC.

Description: § 205(d) Rate Filing: Amended and Restated Shared Facilities Agreement to be effective 8/24/2024.

Filed Date: 8/23/24.

Accession Number: 20240823-5079.

Comment Date: 5 p.m. ET 9/13/24.

Docket Numbers: ER24-2842-000.

Applicants: Atrisco BESS SF LLC.

Description: § 205(d) Rate Filing: Amended and Restated Lease Agreement to be effective 8/24/2024.

Filed Date: 8/23/24.

Accession Number: 20240823-5080.

Comment Date: 5 p.m. ET 9/13/24.

Docket Numbers: ER24-2843-000.

Applicants: Atrisco Solar SF LLC.

Description: § 205(d) Rate Filing: Amended and Restated Lease Agreement to be effective 8/24/2024.

Filed Date: 8/23/24.

Accession Number: 20240823-5083.

Comment Date: 5 p.m. ET 9/13/24.

Docket Numbers: ER24-2844-000.

Applicants: Wildflower Energy LP.

Description: Tariff Amendment: Notice of Cancellation of Market-Based Rate Tariff to be effective 8/24/2024.

Filed Date: 8/23/24.

Accession Number: 20240823-5085.

Comment Date: 5 p.m. ET 9/13/24.

Docket Numbers: ER24-2845-000.

Applicants: Interstate Power and Light Company, ITC Midwest LLC.

Description: § 205(d) Rate Filing: Interstate Power and Light Company submits tariff filing per 35.13(a)(2)(iii: Update to O&T Agreement Exhibits and Appendices (2024) to be effective 10/22/2024.

Filed Date: 8/23/24.

Accession Number: 20240823-5086.

Comment Date: 5 p.m. ET 9/13/24.

Docket Numbers: ER24-2847-000.

Applicants: Alabama Power Company, Georgia Power Company, Mississippi Power Company.

Description: Tariff Amendment: Alabama Power Company submits tariff filing per 35.15: Paper Shell Solar 1 LGIA Termination Filing to be effective 8/23/2024.

Filed Date: 8/23/24.

Accession Number: 20240823-5095.

Comment Date: 5 p.m. ET 9/13/24.

Docket Numbers: ER24-2848-000.

Applicants: Troutdale Grid, LLC.

Description: Baseline eTariff Filing: Troutdale Grid, LLC Application for Market-Based Rate Authorization to be effective 10/23/2024.

Filed Date: 8/23/24.

Accession Number: 20240823-5102.

Comment Date: 5 p.m. ET 9/13/24.

Docket Numbers: ER24-2849-000.

Applicants: Midcontinent Independent System Operator, Inc.

Description: § 205(d) Rate Filing: 2024-08-23_SA 4328 NSP-Three Waters Wind Farm GIA (S1013) to be effective 8/9/2024.

Filed Date: 8/23/24.

Accession Number: 20240823-5109.

Comment Date: 5 p.m. ET 9/13/24.

Docket Numbers: ER24-2850-000.

Applicants: PJM Interconnection, L.L.C.

Description: § 205(d) Rate Filing: Amendment to ISA, SA No. 5596; Queue No. AD1-020 to be effective 10/23/2024.

Filed Date: 8/23/24.

Accession Number: 20240823-5115.

Comment Date: 5 p.m. ET 9/13/24.

Docket Numbers: ER24-2851-000.

Applicants: Tri-State Generation and Transmission Association, Inc.

Description: § 205(d) Rate Filing: Amendment to Rate Schedule FERC No. 14 to be effective 10/22/2024.

Filed Date: 8/23/24.

Accession Number: 20240823-5120.

Comment Date: 5 p.m. ET 9/13/24.

Docket Numbers: ER24-2852-000.

Applicants: New England Power Company.

Description: Tariff Amendment: 2024-08-23 Notice of Cancellation of CRA with Holden Municipal Light Dept. to be effective 10/23/2024.

Filed Date: 8/23/24.

Accession Number: 20240823-5121.

Comment Date: 5 p.m. ET 9/13/24.

Docket Numbers: ER24-2853-000.

Applicants: Duke Energy Florida, LLC.

Description: Tariff Amendment: DEF-City of Mount Dora, FMPP, OUC RS No. 366 Cancellation to be effective 10/31/2024.

Filed Date: 8/23/24.

Accession Number: 20240823-5123.

Comment Date: 5 p.m. ET 9/13/24.

Docket Numbers: ER24-2854-000.

Applicants: Aron Energy Prepay 44 LLC.

Description: Baseline eTariff Filing: Baseline new to be effective 10/23/2024.

Filed Date: 8/23/24.

Accession Number: 20240823-5127.

Comment Date: 5 p.m. ET 9/13/24.

Docket Numbers: ER24-2855-000.

Applicants: Aron Energy Prepay 45 LLC.

Description: Baseline eTariff Filing: Baseline new to be effective 10/23/2024.

Filed Date: 8/23/24.

Accession Number: 20240823-5132.

Comment Date: 5 p.m. ET 9/13/24.

Docket Numbers: ER24-2856-000.

Applicants: Aron Energy Prepay 46 LLC.

Description: Baseline eTariff Filing: Baseline new to be effective 10/23/2024.

Filed Date: 8/23/24.

Accession Number: 20240823-5133.

Comment Date: 5 p.m. ET 9/13/24.

Docket Numbers: ER24-2857-000.

Applicants: Aron Energy Prepay 47 LLC.

Description: Baseline eTariff Filing: Baseline new to be effective 10/23/2024.

Filed Date: 8/23/24.

Accession Number: 20240823-5138.

Comment Date: 5 p.m. ET 9/13/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: August 23, 2024.
Debbie-Anne A. Reese,
Acting Secretary.

[FR Doc. 2024-19489 Filed 8-29-24; 8:45 am]

BILLING CODE 6717-01-P